DEPARTMENT OF TRANSPORTATION

Federal Aviation Administration

Public Notice for a Change in Use of Aeronautical Property at Thomasville Municipal Airport, Thomasville, GA

AGENCY: Federal Aviation Administration (FAA), DOT.

ACTION: Request for public comment.

SUMMARY: Section 125 of the Wendell H. Ford Aviation Investment and Reform Act for the 21st Century (AIR-21) requires the FAA to provide an opportunity for public notice and comment prior to the “waiver” or “modification” of a sponsor's Federal obligation to use certain airport land for aeronautical purposes.

The Federal Aviation Administration is requesting public comment on the city of Thomasville's request to change a portion (10.5 acres) of airport property from aeronautical use to non-aeronautical use.

The subject property is located adjacent to the County Oaks Public Golf Course located on Lawhorn Road in Land Lots 218 of the 13th Land District of Thomas County, Georgia.

DATES: Comments must be received on or before July 28, 2004.

ADDRESSES: Documents are available for review at the Airport Manager's office and the FAA Airport District Office at the following addresses below:

Mr. John F. Wood, Airport Operations Engineer, Thomasville Municipal Airport, 111 Victoria Place, Thomasville, GA 31792.

Atlanta Airport District Office, 1701 College Ave., Suite 2-260, Columbia Ave., Suite 2-260, College Park, GA 30337-2747.

FOR FURTHER INFORMATION CONTACT: Phillip Cannon, Program Manager, Federal Aviation Administration Southern Region, Atlanta Airports District Office, Campus Building, 1701 College Ave., Suite 2-260, College Park, GA 30337-2747. 404-305-7152, Fax: -7155.

SUPPLEMENTARY INFORMATION: The FAA is reviewing a request by the City of Thomasville to release 10.5 acres located at Thomasville Municipal Airport on the south side of Lawhorn Road west of its intersection with Centennial Road in Lot 218 on the 13th Land District of Thomas County, Georgia. Property is currently shown on the approved Airport Layout Plan as aeronautical land; however the property is currently not being used for aeronautical purposes and will not have an impact to aviation related work. Thomas County will continue to retain the property for use by the County Oaks Public Golf Course. The avigation easement will continue to be in effect for the Thomasville Municipal Airport. Property was acquired through the Thomasville Army Training Air Base and released by the Department of Defense in 1970. This surplus property is owned by the City of Thomasville and Thomas County. Sponsor's proposed sale of property is for the reorientation of the driving range of the County Oaks Public Golf Course away from its current location paralleled to Route 122. The disposition of the sale profit will enter into the Thomasville Municipal Airport Enterprise Fund at fair market value $2000 per acre. (Almand & Company Appraisal Consultants, Valdosta, GA.)

Documents reflecting the Sponsor's request are available for inspection at the Airport Manager's office and the FAA Airport District Office.

Issued in Atlanta, Georgia on June 15, 2004.
Scott L. Seritt,
Manager, Atlanta Airports District Office, Southern Region.

[FR Doc. 04-14634 Filed 6-25-04; 8:45 am]

BILLING CODE 4910-13-M